DEPARTMENT OF THE TREASURY

Submission for OMB Review; Comment Request

March 10, 2009.

The Department of the Treasury will submit the following public information collection requirement(s) to OMB for review and clearance under the Paperwork Reduction Act of 1995, Public Law 104-13 on or after the date of publication of this notice. Copies of the submission(s) may be obtained by calling the Treasury Bureau Clearance Officer listed. Comments regarding this information collection should be addressed to the OMB reviewer listed and to the Treasury Department Clearance Officer, Department of the Treasury, Room 11000, 1750 Pennsylvania Avenue, NW., Washington, DC 20220.

DATES: Written comments should be received on or before April 15, 2009 to be assured of consideration.

Alcohol and Tobacco Tax and Trade Bureau (TTB)

OMB Number: 1513-0027.

Type of Review: Extension.

Form: TTB F 5200.14.

Title: Taxable Articles without Payment of Tax.

Description: The tobacco manufacturer or export warehouse proprietor is liable for the tax on tobacco products until execution of the certification by Customs or an authorized receiving officer on TTB F 5200.14, which indicates verification of export or bonded transfer. TTB needs this information to protect the revenue. If this TTB form is not properly completed, TTB will assess the tax on the manufacturer of tobacco products or cigarette papers and tubes or on the proprietor of the export warehouse or customs manufacturing warehouse for products not exported or properly disposed of.

Respondents: Businesses or other for-profits.

Estimated Total Burden Hours: 59,840 hours.

OMB Number: 1513-0051.

Type of Review: Extension.

Form: TTB F 5110.74.

Title: Application for an Alcohol Fuel Producer under 26 U.S.C. 5181.

Description: This form is used by persons who wish to produce and receive spirits for the production of alcohol fuels as a business or for their own use and for State and local registration where required. The form describes the person(s) applying for the permit, location of the proposed operation, type of material used for production, and amount of spirits to be produced.

Respondents: Businesses or other for-profits.

Estimated Total Burden Hours: 394 hours.

OMB Number: 1513-0090.

Type of Review: Extension.

Form: TTB F 5000.25.

Title: Excise Tax Return—Alcohol and Tobacco (Puerto Rico).

Description: Businesses in Puerto Rico report their Federal excise tax liability on distilled spirits, wine, beer, tobacco products, cigarette papers and tubes on TTB F 5000.25. TTB needs this form to identify the taxpayer and to determine the amount and type of taxes due and paid.

Respondents: Businesses or other for-profits.

Estimated Total Burden Hours: 119 hours.

OMB Number: 1513-0013.

Type of Review: Extension.

Form: TTB F 5000.18.

Title: Change of Bond (Consent of Surety).

Description: A Change of Bond (Consent of Surety), TTB F 5000.18, is executed by both the bonding company and a proprietor and acts as a binding legal agreement between the two parties to extend the terms of a bond. A bond is necessary to cover specific liabilities on the revenue produced from untaxpaid commodities. TTB F 5000.18 is filed with TTB and a copy is retained by TTB as long as it remains current and in force.

Respondents: Businesses or other for-profits.

Estimated Total Burden Hours: 2,000 hours.

OMB Number: 1513-0111.

Type of Review: Revision.

Form: TTB F 5013.2.

Title: COLAs Online Access Request.

Description: The information on this form will be used by TTB to authenticate end users on the system to electronically file Certificates of Label Approval (COLAs). The system will authenticate end users by comparing information submitted to records in multiple databases.

Respondents: Businesses or other for-profits.

Estimated Total Burden Hours: 410 hours.

Clearance Officer: Frank Foote, (202) 927-9347. Alcohol and Tobacco Tax and Trade Bureau, Room 200 East, 1310 G Street, NW., Washington, DC 20005.

OMB Reviewer: Shagufta Ahmed, (202) 395-7873. Office of Management and Budget, Room 10235, New Executive Office Building, Washington, DC 20503.

Celina Elphage,
Treasury PRA Clearance Officer.

[FR Doc. E9-5605 Filed 3-13-09; 8:45 am]

BILLING CODE 4810-31-P